DEPARTMENT OF THE INTERIOR

National Park Service

[NPS-IMR-YELL-20564; PPIMYELL1W, PROIESUC1.380000 (166)]

Information Collection Request Sent to the Office of Management and Budget (OMB) for Approval; Reporting and Recordkeeping for Snowcoaches and Snowmobiles, Yellowstone National Park

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on October 31, 2016. We may not conduct or sponsor and a person is not required to respond to a collection of information unless it displays a currently valid OMB control number. However, under OMB regulations, we may continue to conduct or sponsor this information collection while it is pending at OMB.

DATES: You must submit comments on or before October 24, 2016.

ADDRESSES: Send your comments and suggestions on this information collection to the Desk Officer for the Department of the Interior at OMB-OIRA at (202) 395-5806 (fax) or OIRA_Submission@omb.eop.gov (email). Please provide a copy of your comments to Madonna L. Baucum, Information Collection Clearance Officer, National Park Service, 12201 Sunrise Valley Drive (Mail Stop 242), Reston, VA 20192 (mail); or madonna_baucum@nps.gov (email). Please reference OMB Control Number 1024-0266 in the subject line of your comments. You may review the ICR online at http://www.reginfo.gov. Follow the instructions to review Department of the Interior collections under review by OMB.

FOR FURTHER INFORMATION CONTACT: To request additional information about this IC, contact Christina Mills, Outdoor Recreation Planner, Yellowstone National Park, National Park Service, PO Box 168, Yellowstone National Park, WY 82190; (307) 344-2320 (phone); or christina_mills@nps.gov@nps.gov.

SUPPLEMENTARY INFORMATION:

I. Abstract

The Yellowstone National Park Organic Act (54 U.S.C. 100301-1000302), signed March 1, 1872, established Yellowstone National Park to “dedicate and set apart as a public park or pleasuring-ground for the benefit and enjoyment of the people” and “for the preservation, from injury or spoliation, of all timber, mineral deposits, natural curiosities, or wonders within said park, and their retention in their natural condition” The Organic Act of 1916 (54 U.S.C. 100101 et seq.) authorizes the Secretary of the Interior to develop regulations for national park units under the Department's jurisdiction.

We (NPS) provide opportunities for people to experience Yellowstone in the winter via oversnow vehicles (snowmobiles and snowcoaches, collectively OSVs). Access to most of the park in the winter is limited by distance and the harsh winter environment, which presents challenges to safety and park operations. The park does not provide wintertime OSV tours directly, but currently authorizes OSV tours through concessions contracts (for snowcoach tours) and commercial use authorizations (for snowmobile tours) with area businesses to provide transportation to visitors (Title IV, Section 403 of the National Parks Omnibus Management Act of 1998, Pub. L. 105-391). The park issued 10-year concession contracts for all OSVs starting in December 2014.

OSV use is a form of off-road vehicle use governed by Executive Order 11644 (Use of Off-road Vehicles on Public Lands, as amended by Executive Order 11989). Implementing regulations are published at 36 CFR 2.18, 36 CFR part 13, and 43 CFR part 36. Routes and areas may be designated for OSV use only by special regulation after it has first been determined through park planning to be an appropriate use that will meet the requirements of 36 CFR 2.18 and not otherwise result in unacceptable impacts.

Information collection requirements in this renewal request include:

(1) Emission and Sound Standards (§ 7.13(l)(4)(vii) and (5)). Only OSVs that meet NPS emission and sound standards may operate in the park. Before the start of each winter season:

(a) Snowcoach manufacturers or commercial tour operators must demonstrate, by means acceptable to the Superintendent, that their snowcoaches meet the standards.

(b) Snowmobile manufacturers must demonstrate, by means acceptable to the Superintendent, that their snowmobiles meet the standards.

(2) Transportation Events (§ 7.13(l)(11)(i)-(iii)). So that we can monitor compliance with the required average and maximum size of transportation events, as of December 15, 2014, each commercial tour operator must:

(a) Maintain accurate and complete records on the number of snowmobiles and snowcoaches he or she brings into the park on a daily basis. These records must be made available for inspection by the park upon request.

(b) Provide a monthly use report on their activities. Form 10-650, “Concessioner Monthly Use Report”, available on the park Web site, is used to collect the following information for transportation events:

• Report Month/Year

• Concessioner/Sub Contractor Contract Number

• Departure Date

• Duration of Trip (in days)

• Transportation event type (snowmobile or snowcoach)

• Number of vehicles

• Best Available Technology (BAT) and Enhanced Best Available Technology (E BAT)

• Number of visitors and guides

• Route and primary destination

• Administrative or guest services trip

• If the transportation event allocation was from another commercial tour operator

• Miscellaneous comments

• Transportation event group size (number of guests/guides)

(3) Enhanced Emission Standards (§ 7.13(l)(11)(iv)). To qualify for the increased average size of snowmobile transportation events or increased maximum size of snowcoach transportation events, each commercial tour operator must:

(a) Before the start of each winter season, demonstrate, by means acceptable to the Superintendent, that his or her snowmobiles or snowcoaches meet the enhanced emission standards; and

(b) Maintain separate records for snowmobiles and snowcoaches that meet enhanced emission standards and those that do not.

We will use the information collected to:

• Ensure that OSVs meet NPS emission standards to operate in the park; (2) evaluate commercial tour operators' compliance with allocated transportation events and daily and seasonal OSV group size limits;

• ensure that established daily transportation event limits for the park are not exceeded,

• confirm that commercial tour operators do not run out of authorizations before the end of the season and create a gap when prospective visitors cannot be accommodated, and

• guarantee compliance with applicable laws and regulations.

Responsible commercial tour operators are required to provide this information to minimize liabilities, maintain business records for tax and other purposes, obtain financial backing, and ensure a safe, efficient, and well-planned operation.

II. Data

OMB Control Number: 1024-0266.

Title: Reporting and Recordkeeping for Snowcoaches and Snowmobiles, Yellowstone National Park, 36 CFR 7.13(l).

Service Form Number: NPS Form 10-650.

Type of Request: Extension without change of a currently approved collection.

Description of Respondents: Individuals desiring to operate snowcoaches and snowmobiles in Yellowstone National Park.

Respondent's Obligation: Required to obtain or retain a benefit.

Frequency of Collection: On occasion.

Activity | Number of respondents | Completion time per response (hours) | Total annual burden hours
Meet Emission/Sound Standards—Snowcoaches (7.13(l)(4)(vi) | 12 | .5 | 6
Meet Emission/Sound Standards—Snowmobiles (7.13(l)(5) | 2 | .5 | 1
Report and Recordkeeping (7.13(l)(11)(i)-(iii)) Form 10-650, “Concessioner Monthly Use Report” | 45 | 2 | 90
Meet Enhanced Emission Standards (7.13(l)(11)(iv)) | 5 | .5 | 3
Total | 64 |  | 100

Estimated Annual Nonhour Burden Cost: None.

III. Request for Comments

On March 15, 2016, we published in the Federal Register (81 FR 13818) a notice of our intent to request that OMB renew approval for this information collection. In that notice, we solicited public comments for 60 days, ending on May 16, 2016. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Please note that the comments submitted in response to this notice are a matter of public record. Before including your address, phone number, email address, or other personal identifying information in your comment, you should be aware that your entire comment, including your personal identifying information, may be made publicly available at any time. While you can ask OMB or us in your comment to withhold your personal identifying information from public review, we cannot guarantee that it will be done.

Dated: September 16, 2016.
Madonna L. Baucum,
Information Collection Clearance Officer, National Park Service.

[FR Doc. 2016-22800 Filed 9-21-16; 8:45 am]

BILLING CODE 4310-EH-P